DEPARTMENT OF TRANSPORTATION

Office of the Secretary

[Docket No. DOT-OST-2016-0053]

Establishment of Interim National Multimodal Freight Network

AGENCY: Office of the Secretary of Transportation (OST), Federal Aviation Administration (FAA), Federal Highway Administration (FHWA), Federal Railroad Administration (FRA), Maritime Administration (MARAD), Saint Lawrence Seaway Development Corporation (SLSDC), and U.S. Department of Transportation (DOT).

ACTION: Notice; request for comments.

SUMMARY: Section 70103 of title 49, United States Code (U.S.C.), which was established in section 8001 of the Fixing America's Surface Transportation (FAST) Act, directs the Under Secretary of Transportation for Policy (Under Secretary) to establish a National Multimodal Freight Network (NMFN) to: (1) Assist States in strategically directing resources toward improved system performance for the efficient movement of freight on the NMFN; (2) inform freight transportation planning; (3) assist in the prioritization of Federal investment; and (4) assess and support Federal investments to achieve the national multimodal freight policy goals described in section 70101(b) of title 49, U.S.C., and the national highway freight program goals described in section 167 of title 23, U.S.C.

Within 180 days of the enactment of the FAST Act, the Under Secretary is directed to establish an Interim NMFN. This notice establishes an Interim NMFN per the statutory requirements and solicits public comment to help inform the Final NMFN that will be designated by December 4, 2017, per the statutory requirement.

DATES: Comments must be received on or before September 6, 2016 to receive consideration by DOT with respect to the final designation of the NMFN.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: Ryan Endorf, 202-366-4835 or email freight@dot.gov.

SUPPLEMENTARY INFORMATION:

Additional Information

Background: Each day, our roads, rails, bridges, seaports, airports, and waterways transport 55 million tons of goods, worth more than $49 billion. Freight travels over an extensive multimodal network of highways, railroads, ports, waterways, pipelines, and airways. A significant portion of the freight moved on this network requires multiple modes of transportation and intermodal connections to reach its final destination. Thus, the reliable movement of freight in the United States depends on all modes working together such that the multimodal freight system functions smoothly and without costly delays.

In a transportation law passed in July, 2012—the Moving Ahead for Progress in the 21st Century Act (MAP-21)—Congress directed DOT to develop a National Freight Strategic Plan and a National Freight Network (NFN) of highways. The NFN was to include the designation of a Primary Freight Network (PFN) of 27,000 centerline miles. On November 19, 2013, DOT published a draft PFN for comment in the Federal Register. In developing the PFN and reviewing the resulting public comments, DOT determined that efforts to incorporate all of the criteria required by MAP-21 did not yield a network that could comprehensively represent the most critical elements of the national freight system. Among other factors, the effort to link qualifying PFN segments to achieve a contiguous network, and to ensure sufficient connections to Mexico and Canada, would require the designation of many thousands of miles beyond the 27,000 centerline miles allowed by MAP-21. Significantly, the draft PFN also did not reflect the location of non-truck freight modes including rail, water and pipeline, which play an essential role in long-distance movement of freight.

In October 2015, DOT released a draft Multimodal Freight Network (MFN) as part of its draft National Freight Strategic Plan (NFSP).¹ That draft network addressed the deficiencies of the PFN by identifying 65,000 centerline miles of road, more than 28 percent of the mileage of the National Highway System (NHS) and approximately 1.6 percent of the nation's total public road mileage; 49,900 route miles of railways representing 35 percent of the nation's rail route miles; 78 ports that accounted for approximately 90 percent of total 2013 U.S. tonnage; and 56 airports that accounted for approximately 90 percent by weight of the nation's landed air cargo in 2013.

¹ https://www.transportation.gov/freight/MFNOct2015

Section 70103 of title 49, U.S.C., which was established in section 8001 of the FAST Act, directs the Under Secretary to establish a NMFN that will be used to: (1) Assist States in strategically directing resources toward improved system performance for the efficient movement of freight on the NMFN; (2) inform freight transportation planning; (3) assist in the prioritization of Federal investment; and (4) assess and support Federal investments to achieve the national multimodal freight policy goals described in section 70101(b) of title 49, U.S.C., and the national highway freight program goals described in section 167 of title 23, U.S.C.

Within 180 days of the enactment of the FAST Act, the Under Secretary is directed to establish an Interim NMFN that includes the following components: (1) The National Highway Freight Network (NHFN), as established under section 167 of title 23, U.S.C.; (2) the freight rail systems of Class I railroads as designated by the Surface Transportation Board; (3) the public ports of the United States that have total annual foreign and domestic trade of at least 2,000,000 short tons, as identified by the Waterborne Commerce Statistics Center of the Army Corps of Engineers (USACE), using the data from the latest year for which such data are available; (4) the inland and intracoastal waterways of the United States, as described in section 206 of the Inland Waterways Revenue Act of 1978 (33 U.S.C. 1804); (5) the Great Lakes, the St. Lawrence Seaway, and coastal and ocean routes along which domestic freight is transported; (6) the 50 airports located in the United States with the highest annual landed weight, as identified by the FAA; and (7) other strategic freight assets, including strategic intermodal facilities and freight rail lines of Class II and Class III railroads, designated by the Under Secretary as critical to interstate commerce.

Not later than 1 year after the enactment of the FAST Act, the Under Secretary is directed, after soliciting input from stakeholders ² through a public process and providing notice and an opportunity for comment on a draft NMFN, to designate a Final NMFN with the goal of (1) improving network and intermodal connectivity; and (2) using measurable data as part of the assessment of the significance of freight movement, including consideration of points of origin, destinations, and linking components of domestic and international supply chains. The Interim NMFN will serve as the draft NMFN.

² These stakeholders include the following: multimodal freight system users, transportation providers, Metropolitan Planning Organizations (MPOs), local governments, ports, airports, railroads, and States.

Interim National Multimodal Freight Network Establishment: The Interim NMFN is based on the statutory requirements identified in 49 U.S.C. 70103(b)(2).³ Maps and tables that provide details of this Interim NMFN can be found at https://www.transportation.gov/freight/InterimNMFN. This section will describe the factors used to establish the Interim NMFN.

³ Note that pipelines are not identified specifically in title 49 as a network component to include on the Interim NMFN. DOT considered the inclusion of pipelines in the draft MFN released in October 2015 and concluded that mapping this system or identifying its most important components would likely not yield an enriched level of field information. Additionally, the inclusion of high volume pipelines would likely raise security concerns as pipelines carry valuable energy products that could be potential targets for acts of domestic terrorism and key pipeline networks stretch across miles of remotely populated areas that may not necessarily be monitored regularly. Moreover, pipelines carry only a limited number of product types and are primarily privately owned and operated. For all of these reasons, DOT has not included pipelines in the Interim NMFN.

The NHFN is established under 23 U.S.C. 167 and includes: (1) The Primary Highway Freight System (PHFS), which Congress designated in the FAST Act to replace the PFN (the new PHFS is a 41,518-mile network identified during the designation process for the PFN); (2) the critical rural freight corridors established under 23 U.S.C. 167(e); (3) the critical urban freight corridors established under 23 U.S.C. 167(f); and (4) the portions of the Interstate System not designated as part of the PHFS. States have the authority to designate critical rural freight corridors. Critical urban freight corridors may be designated by the relevant States or Metropolitan Planning Organization (MPOs), in consultation with each other, depending on population size. As no State or MPO has yet designated a critical rural or urban freight corridor as part of the NHFN, the highway portion of the Interim NMFN will consist of the 41,518-mile PHFS and the other portions of the Interstate System not designated as part of the PHFS. The current total mileage of the NHFN shown on the maps for the Interim NMFN is 51,029 miles, however, this mileage will continue to fluctuate as there are some Interstate System segments that have been recently constructed or converted to Interstate System designation and, as such, are automatically included in the NHFN. These additional segments are not yet shown on our NHFN maps or calculated in the 51,029 miles.

As specified by the FAST Act, the Interim NMFN contains the freight rail systems of the Class I railroads as designated by the Surface Transportation Board (STB), totaling more than 95,000 route miles. Compared to the draft MFN released by DOT in October 2015, the rail network provided for in the FAST Act is much more expansive. Additionally, the statute specifically references other strategic freight assets, including other intermodal facilities and freight rail lines of Class II and Class III railroads, designated by the Under Secretary as critical to interstate commerce.

DOT has included (as strategic freight assets) routes critical to interstate commerce which encompassed any rail connections to ports that are included on the Interim NMFN. In addition, those routes critical to national defense, which are designated by the U.S. Department of Defense's (DOD) Strategic Rail Corridor Network (STRACNET), are included in the Interim NMFN. These additional designations, which draw extensively from the Class II and Class III railroads, are necessary to promote network connectivity, which is vital for interstate commerce and national defense. The designation of the Interim NMFN consists of 104,296 rail route miles, which includes the entire Class I network of 95,200 route miles and 9,096 route miles of Class II and Class III railroad.⁴ Of these, the Class II and Class III rail lines account for 9 percent of the rail network by mileage in the Interim NMFN. Class IIs comprise 1,235 route miles while Class IIIs are represented by 7,861 route miles.

⁴ Note that the entire combined network of Class II and Class III railroad route miles is slightly over 43,200.

Similarly, the 116 ports listed for the Interim NMFN exceed the 78 ports identified in the October 2015 draft MFN proposed by DOT. Using the latest available data obtained from the USACE's Waterborne Commerce Statistics Center (calendar year 2014), DOT has determined that 113 U.S. ports satisfy the 2,000,000 short ton threshold criterion specified in the FAST Act.⁵ DOT also included (as strategic freight assets) three additional ports (Portsmouth, VA, San Diego, CA, and Apra Harbor, Guam) in the Interim NMFN that did not satisfy the 2,000,000 short ton threshold but which were strategic ports as of April 1, 2016 as designated by the DOD, bringing the total ports included in the Interim NMFN to 116 ports.⁶ The 116 ports included in the Interim NMFN collectively handled more than 95 percent of the nation's domestic and foreign cargo in 2014. The total national waterborne traffic for 2014 was more than 2.3 billion short tons, of which 937 million were domestic traffic.

⁵ The 2014 calendar year tonnage by port for calendar year 2014 published by the U.S. Army Corps of Engineers Waterborne Commerce Statistics Center can be found at http://www.navigationdatacenter.us/wcsc/porttons14.html.

⁶ The U.S. Army Military Surface Deployment and Distribution Command (SDDC) of the DOD currently has 17 commercial seaports designated as strategic ports, 14 of which handle more than 2,000,000 short tons and are included in the 113 ports described above.

The maritime component of the Interim NMFN also includes navigable waterways that are used to transport domestic and international freight. The locations and dimensions of these waterways are based on data contained in the published USACE Waterway Network files (Waterway Network).⁷ As required by the FAST Act, the Interim NMFN includes U.S. inland and intracoastal waterways specified in section 206 of the Inland Waterways Revenue Act of 1978 (codified at 33 U.S.C. 1804), which provides explicit descriptions of the portions of waterways that are covered under it. DOT used these descriptions to spatially identify those inland and intracoastal waterway links on the Waterway Network that are shown on the NMFN map. As further directed by the FAST Act, other maritime routes on the Waterway Network commonly used for the transport of domestic freight are also depicted in the Interim NMFN, including routes on the Great Lakes, U.S. components of the St. Lawrence Seaway, and coastal and open ocean areas.⁸

⁷ The U.S. Army Corps of Engineers Waterway Network can be found at http://www.navigationdatacenter.us/data/datanwn.htm.

⁸ See 49 U.S.C. 70103(b)(2)(E).

In all cases, links between designated Interim NMFN ports and the Waterway Network are provided to show continuity. In total, the Interim NMFN includes approximately 26,000 miles of inland, intracoastal, Great Lakes, St. Lawrence Seaway, coastal, and open-ocean waterways. This total does not include the waterway mileage in international waters or foreign waters from the U.S. Mainland to our nation's non-contiguous states (Alaska and Hawaii) or to the territories of Puerto Rico, Guam, and other locations, although waterway routes at and around these locations are included where significant domestic trade takes place.

Collectively, the routes described above also encompass the entire America's Marine Highways route system as designated by the Secretary of Transportation (46 U.S.C. 55601).⁹ Marine Highways are available to provide additional freight transportation capacity between U.S. ports, supplementing highway and rail systems. Routes on the inland waterways, intracoastal waterways, Great Lakes, St. Lawrence Seaway, coastal, and open-ocean that are officially designated as Marine Highways are labeled as such in the Interim NMFN map.

⁹ The short sea transportation routes authorized by 46 U.S.C. 55601 are implemented under the America's Marine Highways program, with specific routes referred to as Marine Highways or Connectors.

In addition, DOT notes that the section 70103 of the FAST Act requires the Interim NMFN to include the top 50 airports by landed weight as identified by the FAA. The FAA identified the top 50 airports by landed weight using the Air Carrier Activity Information System (ACAIS), an FAA database that reflects the certificated maximum gross landed weight of all-cargo aircraft as required by 49 U.S.C. 47102(10) and 49 U.S.C. 47114(2). The ACAIS data, however, do not reflect the actual weight of the cargo being transported on all-cargo aircraft and do not account for other manner of cargo operations, such as belly cargo on passenger operations.

Because the FAA's ACAIS database excludes belly cargo, which is a significant source of freight movement, DOT also considered Bureau of Transportation Statistics (BTS) data that capture cargo weight reported on DOT Form 41, Schedules T-100 [U.S. carriers] and T-100(f) [foreign carriers], which reflects the weight of cargo being transported on both passenger and cargo aircraft.

When considering the top 50 airports in the BTS' Form 41 market data for 2014 (excluding mail and attributing weight by destination to be consistent with the cargo data in ACAIS), there are a total of six airports that are not in the top 50 using the FAA's ACAIS database for 2014, presumably because these airports receive a large amount of belly cargo activity that is not captured by the FAA's ACAIS database.

1. Charlotte Douglas International Airport (CLT)—Charlotte, NC

2. McCarran International Airport (LAS)—Las Vegas, NV

3. Huntsville International Airport (HSV)—Huntsville, AL

4. Spokane International Airport (GEG)—Spokane, WA

5. Tampa International Airport (TPA)—Tampa, FL

6. Pittsburgh International Airport (PIT)—Pittsburgh, PA

DOT has included these six additional airports on the Interim NMFN as “other strategic freight assets” that are critical to the movement of interstate commerce. Including these six airports on the Interim NMFN provides a more complete picture of how air freight (including belly cargo) is moving through the airports in the United States.

Final National Multimodal Freight Network Designation: Not later than 1 year after the enactment of the FAST Act, the Under Secretary is directed, after soliciting input from stakeholders (listed in 49 U.S.C. 70103(c)) ¹⁰ through a public process and providing notice and an opportunity for comment on a draft NMFN, to designate a Final NMFN with the goal of: (1) Improving network and intermodal connectivity; and (2) using measurable data as part of the assessment of the significance of freight movement, including consideration of points of origin, destinations, and linking components of domestic and international supply chains. The Interim NMFN will serve as the draft NMFN. In designating the route miles and facilities on the Final NMFN, the Under Secretary shall have considered the following factors:

¹⁰ Stakeholders listed in 49 U.S.C. 70103(c)(1) include multimodal freight system users, transportation providers, MPOs, local governments, ports, airports, railroads, and States. States are assigned additional requirements described in 49 U.S.C. 70103(c)(4).

1. Origins and destinations of freight movement within, to, and from the United States;

2. Volume, value, tonnage, and the strategic importance of freight;

3. Access to border crossings, airports, seaports, and pipelines;

4. Economic factors, including balance of trade;

5. Access to major areas for manufacturing, agriculture, or natural resources;

6. Access to energy exploration, development, installation, and production areas;

7. Intermodal links and intersections that promote connectivity;

8. Freight choke points and other impediments contributing to significant measurable congestion, delay in freight movement, or inefficient modal connections;

9. Impacts on all freight transportation modes and modes that share significant freight infrastructure;

10. Facilities and transportation corridors identified by a multi-State coalition, a State, a State freight advisory committee, or an MPO, using national or local data, as having critical freight importance to the region;

11. Major distribution centers, inland intermodal facilities, and first- and last-mile facilities; ¹¹ and

¹¹ DOT proposes that the definition for major distribution centers, inland intermodal facilities, and first- and last-mile facilities include both those specific points, such as manufacturers, distribution points, rail intermodal, and port facilities, that handle high volumes of freight, and specific transportation assets, such as roadways, rail lines, or inland waterways, that provide the primary means of transport in the case of first mile, or to the final delivery point in the case of last mile.

12. The significance of goods movement, including consideration of global and domestic supply chains.

During this designation process, the Under Secretary shall: (1) Use, to the extent practicable, measurable data to assess the significance of goods movement, including the consideration of points of origin, destinations, and linking components of the United States global and domestic supply chains; (2) consider the 12 factors listed above and any changes in the economy that affect freight transportation network demand; and (3) provide the States with an opportunity to submit proposed designations.¹²

¹² See 49 70103(c)(3).

DOT seeks comments on corridors or facilities (across all modes) not included in the Interim NMFN that address one or more of the 12 factors noted above, including a discussion of why additional components should be considered for inclusion on the Final NMFN. In particular, DOT seeks public comment on intermodal facilities and border crossings that are not included on the Interim NMFN. DOT requests that any proposed corridors or facilities be supported with data from the most recent year available that demonstrate one or more of the above factors. DOT also requests that any proposed corridors or facilities be submitted with shapefiles, to the extent possible. Below, there is a list of specific questions or data requests pertaining to each mode of transportation reflected on the Interim NMFN.

Highway: DOT seeks input on both the size and composition of the highway portion of the Final NMFN. DOT is also looking for input on what should be the relevant factors for including a land border crossing and roads at that crossing; on whether to include the entire Strategic Highway Network (STRAHNET) ¹³ or some subset of its routes, such as STRAHNET connectors; and which specific roadway segments (including intermodal connectors and border crossings) should be added to or deleted from the Interim NMFN, with a fact-based or data-driven rationale. State-proposed additions should follow the statutory requirements identified below, under “State Input.”

¹³ Note that the 63,000 mile STRAHNET includes the 47,000 mile Interstate routes and an additional 16,000 non-Interstate routes. The bulk of the STRAHNET (the Interstate Routes) is already included in the Interim NMFN.

DOT also seeks input on whether the 65,000-mile highway network included in the draft MFN released in October 2015 (as part of the draft NFSP)—with or without additional modification for STRAHNET, border crossings, urban or rural connectors, etc.—should be designated as the Final highway portion of the NMFN instead of the highway portion of the Interim NMFN. When proposed last fall, the draft MFN was uncapped and data-driven, featured a lower threshold for truck volumes to capture last and first mile connectors and reflected improved linkages to intermodal facilities compared to the PHFS in the NHFN. The additional continuity and connectivity of the 65,000-miles of the highway portion of the draft MFN provides a more complete representation of the multimodal system that is required to efficiently and effectively move freight in the U.S. For more information on the characteristics and methodology of the larger draft MFN, see the following links to maps, draft MFN, and Federal Register notice:

https://www.transportation.gov/sites/dot.gov/files/docs/DRAFT_NFSP_for_Public_Comment_508_10%2015%2015%20v1.pdf (See discussion of methodology in Appendix D beginning on p.138).

https://www.transportation.gov/freight/NationalMFN

https://www.transportation.gov/freight/StateMFNs

https://www.transportation.gov/freight/MFN

https://www.transportation.gov/sites/dot.gov/files/docs/FHWA-151002-013_F%20PFN.pdf

Rail: DOT specifically requests comments relating to the proposed rail network. By statute, the Interim NMFN requires all Class I rail lines to be included. This type of designation does not consider the traffic density and volume across the Class I network, and that some Class II and III systems and segments can handle more traffic than lighter density Class I branch lines. Prior to the implementation of the FAST Act, DOT proposed a draft MFN and defined the rail network using traffic density and volume, among other factors.

In this approach, FRA used the 2013 Carload Waybill Sample and the designated STRACNET coded within the FRA network to determine the rail components of the draft MFN map. Based on the Waybill Sample, FRA developed the following three categories of rail service for potential inclusion in the draft MFN:

• Intermodal rail traffic, which includes trailer on flatcar, container on flatcar, and rail double stack;

• Bulk shipments, which FRA defined to include all non-intermodal moves that consisted of 50 cars or more of the same commodity on the same waybill;

• General merchandise shipments, which include moves that are not intermodal and did not meet the bulk traffic criteria.

All intermodal rail routes are included in the draft MFN. For bulk and general merchandise shipments, FRA allocated the waybill data into three volume tiers and relied on the natural breaks in the volume data to determine those parts of the network that had the greatest volumes, removing those lines on the network with the lowest tier of tons for bulk and general merchandise. All STRACNET lines were included in the draft rail MFN map.

The rail component of the draft MFN map consists of 49,900 route miles, representing 35 percent of the nation's rail route miles. Of this, approximately 94 percent belong to Class I railroads, with the balance belonging to Class II and Class III railroads. Collectively, the rail routes on the draft MFN map account for 60 percent of all rail freight traffic as measured by tons of freight.

FRA also used the 2013 Surface Transportation Board Carload Waybill Sample to determine which rail connectors (interchange points with other modes) should be identified within the draft MFN map. FRA selected the top 50 bulk origination/destination markets (100 locations) and the top 25 intermodal origination/destination markets (50 locations). Since there are duplicates in the 150 total locations, FRA consolidated these to 53 unique locations. This process gave FRA a narrow accounting of the rail connectors, since the waybill sample is not totally structured to identify multimodal connectors. DOT is seeking public comment on any other key factors that should be considered to better capture and identify freight moving on multiple modes. DOT seeks public input on FRA's methodology to structure the rail component of the Final NMFN. This approach would designate routes based primarily on traffic density and volume. Commenters should also address what density levels should be used to determine those lines which should be included in the network. Commenters should also consider Class II and Class III lines with particular attention focused on the statutory language identifying those lines that are critical to interstate commerce. Commenters should also note what criteria are used for determining critical to interstate commerce. Finally, DOT requests alternative methodologies and/or datasets to identify rail lines and the rail connection locations to construct a more robust rail component of the NMFN.

Maritime: DOT requests public comment on the maritime component of the Interim NMFN. As specified by the FAST Act, the Interim NMFN depicts public ports that handle at least 2,000,000 short tons of domestic and foreign trade, annually.

DOT seeks public input regarding the 2,000,000 short ton and strategic port standards that DOT was required to use as the selection criteria for U.S. ports in the Interim NMFN. Specifically, DOT requests comment on whether this standard should be maintained in the Final NMFN or if there are other selection criteria that would more appropriately identify commercial ports that are critical to the NMFN. DOT notes that special considerations (such as status as strategic ports or other ports critical to moving strategic freight assets efficiently by water, such as fuel or energy commodities) will be considered. For instance, DOT requests assistance in identifying any ports that are unique in handling specialty cargoes critical to economic competitiveness and resilience. DOT recognizes that some ports that fall below the 2 million short ton threshold may become critical to movement of goods in times of national emergency and, in those times, could become the cornerstone for large scale movement of goods. Further, DOT requests public input as to whether the navigable waterways included in the Interim NMFN sufficiently depict routes along which domestic waterborne freight is commonly transported.

Aviation: DOT requests feedback regarding the most appropriate data to use when determining which airports to include in the Final NMFN. As noted above, the FAST Act directed that the Interim NMFN include the top 50 airports by landed all-cargo weight as identified by the FAA. However, this dataset does not account for the amount of cargo moved in the bellies of passenger aircraft. Further, this dataset captures maximum “landed weight” of all-cargo aircraft, which is based on the weight determined by aircraft type, regardless of actual cargo carried. DOT supplemented the Interim NMFN by considering additional candidates selected from the top 50 airports using cargo data reported to BTS. These BTS data reflect the weight of cargo being transported on both passenger and cargo aircraft.

For determining how to supplement the interim network, several choices were made regarding the BTS data:

• DOT selected market data rather than segment data. We believe that market data provide a better sense of cargo moving on and off airports, which is appropriate for an intermodal network.

• DOT selected destination (landed) weight rather than origin weight, in order to be consistent with the type of data required in the interim network.

• DOT selected cargo weight only, excluding mail.

Considering the data sources used to determine the interim network, DOT seeks public input regarding what data specifically should be considered for the Final NMFN. Should DOT use only the BTS data? Should DOT continue to combine the BTS data with the ACAIS data? DOT also requests comment on additional methodologies and data sources that have not been considered for the Interim NMFN.

State Input: 49 U.S.C. 70103(c)(1) and 49 U.S.C. 70103(c)(3)(C) direct the Under Secretary to provide the States with an opportunity to submit proposed designations to the NMFN during the process of designating the Final NMFN. 49 U.S.C. 70103(c)(4)(A) requires each State that proposes additional designations to consider nominations for additional designations from a wide range of stakeholders, including MPOs, State Freight Advisory Committees (if applicable), and owners and operators of port, rail, pipeline, and airport facilities. Additionally, each State proposing additional designations is required to ensure that all additional designations are consistent with the State transportation improvement program (STIP) or freight plan. States may designate a freight facility or corridor within the borders of the State as a critical rural freight facility or corridor for the Final NMFN designation. Importantly, please note that this authority and process is unrelated to the highway-specific designation of critical rural freight corridors by States and critical urban freight corridors by States and MPOs for inclusion in the NHFN.¹⁴ In order to qualify as a critical rural freight facility or corridor for the NMFN, the facility or corridor must meet at least one of the following conditions:

¹⁴ For more information on the designation of critical rural freight corridors under the NHFP program, please see FHWA's guidance located at http://www.ops.fhwa.dot.gov/fastact/crfc/sec_1116_gdnce.htm.

1. Is a rural principal arterial;

2. Provides access or service to energy exploration, development, installation, or production areas;

3. Provides access or service to—

a. A grain elevator;

b. An agricultural facility;

c. A mining facility;

d. A forestry facility; or

e. An intermodal facility;

4. Connects to an international port of entry;

5. Provides access to a significant air, rail, water, or other freight facility in the State; or

6. Has been determined by the State to be vital to improving the efficient movement of freight of importance to the economy of the State.

There is no limitation that such critical rural freight facilities or corridors must be highways. Each State may propose additional designations that are up to 20 percent of the total mileage of modal routes designated by the Under Secretary for the State. For the purposes of this first designation, the “total mileage” will be the total mileage in each State on the Interim NMFN. If a State wishes to propose a designation of a future Interstate or NHS route, it should provide information sufficient to demonstrate that the route is critical to the future efficient movement of goods and that the State will make such designation before the end of this year (when the Final NMFN is due). States should submit a list of additional designations to the Under Secretary as part of the public comment process described below. Each State submitting additional designations should also certify that the State has satisfied the requirements of 49 U.S.C. 70103(c)(4) and that each proposed designation addresses one or more of the factors listed in 49 U.S.C. 70103(c)(2) (also listed above).

Public Comment: The DOT invites comments by all those interested in the NMFN. Comments on the Interim NMFN may be submitted and viewed at Docket Number DOT-OST-2016-0053. Comments must be received on or before September 6, 2016 to receive full consideration by DOT with respect to the final designation of the NMFN. After September 6, 2016, comments will continue to be available for viewing by the public.

The Final NMFN will be designated not later than December 4, 2016 by the Under Secretary per the statutory requirement.

Dated: May 27, 2016.
Carlos Monje Jr.,
Acting Under Secretary of Transportation for Policy.

[FR Doc. 2016-13261 Filed 6-3-16; 8:45 am]

BILLING CODE 4910-9X-P